DEPARTMENT OF THE INTERIOR

Bureau of Land Management

[LLOR936000-L14300000-ET0000; HAG-11-0232; OROR-45928]

Public Land Order No. 7777; Partial Extension of Public Land Order No. 6874; Oregon

AGENCY: Bureau of Land Management, Interior.

ACTION: Public Land Order.

SUMMARY: This order extends, in part, the duration of the withdrawal created by Public Land Order No. 6874 for an additional 20-year period. The extension is necessary to continue protection of the unique and important forest genetic resources and the expenditure of Federal funds at the Forest Service's Panelli Seed Orchard, which would otherwise expire on August 27, 2011. The withdrawal for the Quartz Evaluation Plantation is no longer needed and that portion of the withdrawal will expire at the end of the original term on August 27, 2011.

DATES: Effective Date: August 28, 2011.

FOR FURTHER INFORMATION CONTACT: Charles R. Roy, Bureau of Land Management, Oregon/Washington State Office, 503-808-6189, or Dianne Torpin, United States Forest Service, Pacific Northwest Region, 503-808-2422. Persons who use a telecommunications device for the deaf (TDD) may call the Federal Information Relay Service (FIRS) at 1-800-877-8339 to contact either of the above individuals during normal business hours. The FIRS is available 24 hours a day, 7 days a week, to leave a message or question with either of the above individuals. You will receive a reply during normal business hours.

SUPPLEMENTARY INFORMATION: The purpose for which the withdrawal was first made for the Panelli Seed Orchard requires this extension in order to continue protection of the unique and important forest genetic resources and the expenditure of Federal funds. The portion of the withdrawal extended by this order will expire on August 27, 2031, unless as a result of a review conducted prior to the expiration date pursuant to Section 204(f) of the Federal Land Policy and Management Act of 1976, 43 U.S.C. 1714(f), the Secretary determines that the withdrawal shall be further extended. The purpose for which the withdrawal for the Quartz Evaluation Plantation was first made no longer exists, so this portion of the withdrawal will expire at the end of its original term on August 27, 2011.

Order

By virtue of the authority vested in the Secretary of the Interior by Section 204 of the Federal Land Policy and Management Act of 1976, 43 U.S.C. 1714, it is ordered as follows:

1. Public Land Order No. 6874 (56 FR 42540 (1991)), which withdrew National Forest System lands from location and entry under the United States mining laws (30 U.S.C. Ch. 2), but not from leasing under the mineral leasing laws, to protect the unique and important forest genetic resources and the expenditure of Federal funds at the Panelli Seed Orchard, is hereby extended for an additional 20-year period until August 27, 2031, only insofar as it affects the following described land:

Willamette Meridian

Fremont National Forest

Panelli Seed Orchard

T. 37 S., R. 15 E.,

Sec. 24, NE¼SE¼.

T. 37 S., R. 16 E.,

Sec. 19, W½ lot 3.

The area described contains approximately 59.78 acres in Klamath and Lake Counties.

2. Public Land Order No. 6874 (56 FR 42540 (1991)), will expire on August 27, 2011, only insofar as it affects the following described land, which will not be opened to the mining laws until such time and date as specified in an opening order that will be published separately in the Federal Register pursuant to 43 C.F.R. 2091.6:

Willamette Meridian

Fremont National Forest

Quartz Evaluation Plantation

T. 37 S., R. 16 E.,

Sec. 28, SW¼NE¼.

The area described contains 40 acres in Lake County.

Authority: 43 CFR 2310.4.

Dated: August 17, 2011.
Rhea S. Suh,
Assistant Secretary—Policy, Management and Budget.

[FR Doc. 2011-22353 Filed 8-31-11; 8:45 am]

BILLING CODE 3410-11-P